FEDERAL RESERVE SYSTEM

Change in Bank Control Notices; Acquisitions of Shares of a Bank or Bank Holding Company

The notificants listed below have applied under the Change in Bank Control Act (Act) (12 U.S.C. 1817(j)) and § 225.41 of the Board's Regulation Y (12 CFR 225.41) to acquire shares of a bank or bank holding company. The factors that are considered in acting on the applications are set forth in paragraph 7 of the Act (12 U.S.C. 1817(j)(7)).

The public portions of the applications listed below, as well as other related filings required by the Board, if any, are available for immediate inspection at the Federal Reserve Bank(s) indicated below and at the offices of the Board of Governors. This information may also be obtained on an expedited basis, upon request, by contacting the appropriate Federal Reserve Bank and from the Board's Freedom of Information Office at https://www.federalreserve.gov/foia/request.htm. Interested persons may express their views in writing on the standards enumerated in paragraph 7 of the Act.

Comments regarding each of these applications must be received at the Reserve Bank indicated or the offices of the Board of Governors, Ann E. Misback, Secretary of the Board, 20th Street and Constitution Avenue NW, Washington, DC 20551-0001, not later than July 7, 2023.

A. Federal Reserve Bank of Dallas (Karen Smith, Director, Mergers & Acquisitions) 2200 North Pearl Street, Dallas, Texas 75201-2272. Comments can also be sent electronically to Comments.applications@dal.frb.org:

1. John Rogers Pope, Sr.; Joyce D. Pope; LOBATCO fbo John Rogers Pope, Sr. MPPP; LOBATCO fbo John Pope, Sr.; LOBATCO fbo John Pope, Jr.; the RJ Pope Investments, Ltd.; RJ Pope Investments II and III, Ltd.; and John Rogers Pope, Sr. and Joyce D. Pope, as co-trustees to the Pope Family Trust, all of Longview, Texas; John Rogers Pope, Jr.; Kellie K. Pope; Jennifer Pope Jones; Lacey Marie Jones; Chloe Anne Jones; and Jacob Borden Jones, all of Tyler, Texas; Sarah Elise Pope, Plano, Texas; William Cade Pope, The Colony, Texas; Mary McClelland, as trustee of the Jack D. McClelland Trust, both of Fair Oaks Ranch, Texas; John Rogers Pope III, Los Angeles, California; Jan Pope McClelland, Brownsboro, Alabama; and John Mark McClelland, Owens Cross Roads, Alabama; as the Pope family group, a group acting in concert, to retain voting shares of Longview Financial Corporation, and thereby indirectly retain voting shares of Texas Bank and Trust Company, both of Longview, Texas.

Board of Governors of the Federal Reserve System.
Margaret McCloskey Shanks,
Deputy Secretary of the Board.

[FR Doc. 2023-13288 Filed 6-21-23; 8:45 am]

BILLING CODE P